ENVIRONMENTAL PROTECTION AGENCY

40 CFR Part 55

[FRL-6563-9]

Outer Continental Shelf Air Regulations Consistency Update for California

AGENCY: Environmental Protection Agency (“EPA”)

ACTION: Final rule—consistency update.

SUMMARY: EPA is finalizing the update of the Outer Continental Shelf (“OCS”) Air Regulations proposed in the Federal Register on November 19, 1999, August 19, 1999, May 27, 1999, August 6, 1998, January 16, 1998, August 23, 1997, July 16, 1997, December 16, 1996, and July 9, 1996. Requirements applying to OCS sources located within 25 miles of states' seaward boundaries must be updated periodically to remain consistent with the requirements of the corresponding onshore area (“COA”), as mandated by section 328(a)(1) of the Clean Air Act Amendments of 1990 (“the Act”). The portion of the OCS air regulations that is being updated pertains to the requirements for OCS sources for which the Santa Barbara County Air Pollution Control District, San Luis Obispo County Air Pollution Control District, South Coast Air Quality Management District, and Ventura County Air Pollution Control District are the designated COAs and requirements submitted by the State of California. The intended effect of approving the requirements contained in “Santa Barbara County Air Pollution Control District Requirements Applicable to OCS Sources' (February, 2000), “San Luis Obispo County Air Pollution Control District Requirements Applicable to OCS Sources” (February, 2000), “South Coast Air Quality Management District Requirements Applicable to OCS Sources' (Part I, II and III) (February, 2000), “Ventura County Air Pollution Control District Requirements Applicable to OCS Sources' (February, 2000), and “State of California Requirements Applicable to OCS Sources” (February, 2000) is to regulate emissions from OCS sources in accordance with the requirements onshore.

DATES: This action is effective April 24, 2000.

ADDRESSES: Copies of the documents relevant to this action are available for public inspection during normal business hours at the following locations:

Rulemaking Section (A-5-3), Air and Toxics Division, U.S. Environmental Protection Agency, Region IX, 75 Hawthorne Street, San Francisco, CA 94105.

Environmental Protection Agency (LE-6102), 401 “M” Street, SW, Room M-1500, Washington, D.C. 20460.

FOR FURTHER INFORMATION CONTACT: Christine Vineyard, Air and Toxics Division (AIR-4), U.S. EPA Region IX, 75 Hawthorne Street, San Francisco, CA 94105, Telephone: (415) 744-1197.

SUPPLEMENTARY INFORMATION:

Background

Table 1
Date of Proposed Rule | Federal Register citation
November 19, 1999 | 64 FR 63271.
August 19, 1999 | 64 FR 45217.
May 27, 1999 | 64 FR 29775.
August 6, 1998 | 63 FR 41991.
January 19, 1998 | 63 FR 8642.
August 23, 1997 | 62 FR 45604.
July 16, 1997 | 62 FR 38047.
December 16, 1996 | 61 FR 66003.
July 9, 1996 | 61 FR 36012.

On the dates listed in Table 1, EPA proposed to approve requirements into the OCS Air Regulations pertaining to Santa Barbara County APCD, San Luis Obispo County APCD, South Coast AQMD, Ventura County APCD, and State of California. These requirements are being promulgated in response to the submittal of rules from local air pollution control agencies and the State of California. EPA has evaluated the proposed requirements to ensure that they are rationally related to the attainment or maintenance of federal or state ambient air quality standards or Part C of title I of the Act, that they are not designed expressly to prevent exploration and development of the OCS and that they are applicable to OCS sources. 40 CFR 55.1. EPA has also evaluated the rules to ensure that they are not arbitrary or capricious. 40 CFR 55.12(e). In addition, EPA has excluded administrative or procedural rules.

A 30-day public comment period was provided in each Proposed Rule, and no comments were received.

EPA Action

In this document, EPA takes final action to incorporate the proposed changes into 40 CFR part 55. No changes were made to the Proposed Rules listed in table 1. EPA is approving the proposed actions as modified under section 328(a)(1) of the Act, 42 U.S.C. 7627. Section 328(a) of the Act requires that EPA establish requirements to control air pollution from OCS sources located within 25 miles of states' seaward boundaries that are the same as onshore requirements. To comply with this statutory mandate, EPA must incorporate applicable onshore rules into Part 55 as they exist onshore.

Administrative Requirements

A. Executive Order 12866

The Office of Management and Budget (OMB) has exempted this regulatory action from Executive Order 12866, entitled “Regulatory Planning and Review.”

B. Executive Order 13045

Executive Order 13045, entitled Protection of Children from Environmental Health Risks and Safety Risks (62 FR 19885, April 23, 1997), applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This rule is not subject to Executive Order 13045 because it does not involve decisions intended to mitigate environmental health or safety risks.

C. Executive Order 13084

Under Executive Order 13084, Consultation and Coordination with Indian Tribal Governments, EPA may not issue a regulation that is not required by statute, that significantly affects or uniquely affects the communities of Indian tribal governments, and that imposes substantial direct compliance costs on those communities, unless the Federal government provides the funds necessary to pay the direct compliance costs incurred by the tribal governments. If the mandate is unfunded, EPA must provide to the Office of Management and Budget, in a separately identified section of the preamble to the rule, a description of the extent of EPA's prior consultation with representatives of affected tribal governments, a summary of the nature of their concerns, and a statement supporting the need to issue the regulation.

In addition, Executive Order 13084 requires EPA to develop an effective process permitting elected and other representatives of Indian tribal governments “to provide meaningful and timely input in the development of regulatory policies on matters that significantly or uniquely affect their communities.” Today's rule does not significantly or uniquely affect the communities of Indian tribal governments. Accordingly, the requirements of section 3(b) of Executive Order 13084 do not apply to this rule.

D. Executive Order 13132

Executive Order 13132, entitled Federalism (64 FR 43255, August 10, 1999) revokes and replaces Executive Orders 12612, Federalism and 12875, Enhancing the Intergovernmental Partnership. Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. Thus, the requirements of section 6 of the Executive Order do not apply to this rule.

E. Regulatory Flexibility Act

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions.

This final rule will not have a significant impact on a substantial number of small entities because consistency updates under section 328(a) of the Clean Air Act do not create any new requirements but simply approve requirements that the State is already imposing. Therefore, because the consistency update approval does not create any new requirements, I certify that this action will not have a significant economic impact on a substantial number of small entities.

Moreover, due to the nature of the Federal-State relationship under the Clean Air Act, preparation of flexibility analysis would constitute Federal inquiry into the economic reasonableness of state action.

F. Unfunded Mandates

Under Section 202 of the Unfunded Mandates Reform Act of 1995 (“Unfunded Mandates Act”), signed into law on March 22, 1995, EPA must prepare a budgetary impact statement to accompany any proposed or final rule that includes a Federal mandate that may result in estimated annual costs to State, local, or tribal governments in the aggregate; or to private sector, of $100 million or more. Under Section 205, EPA must select the most cost-effective and least burdensome alternative that achieves the objectives of the rule and is consistent with statutory requirements. Section 203 requires EPA to establish a plan for informing and advising any small governments that may be significantly or uniquely impacted by the rule.

EPA has determined that the approval action promulgated does not include a Federal mandate that may result in estimated annual costs of $100 million or more to either State, local, or tribal governments in the aggregate, or to the private sector. This Federal action approves pre-existing requirements under State or local law, and imposes no new requirements. Accordingly, no additional costs to State, local, or tribal governments, or to the private sector, result from this action.

G. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This rule is not a “major” rule as defined by 5 U.S.C. 804(2).

H. National Technology Transfer and Advancement Act

Section 12 of the National Technology Transfer and Advancement Act (NTTAA) of 1995 requires Federal agencies to evaluate existing technical standards when developing a new regulation. To comply with NTTAA, EPA must consider and use “voluntary consensus standards” (VCS) if available and applicable when developing programs and policies unless doing so would be inconsistent with applicable law or otherwise impractical.

The EPA believes that VCS are inapplicable to this action. Today's action does not require the public to perform activities conducive to the use of VCS.

I. Petitions for Judicial Review

Under section 307(b)(1) of the Clean Air Act, petitions for judicial review of this action must be filed in the United States Court of Appeals for the appropriate circuit by May 23, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 55

Environmental protection, Administrative practice and procedures, Air pollution control, Hydrocarbons, Intergovernmental relations, Nitrogen dioxide, Nitrogen oxides, Outer Continental Shelf, Ozone, Particulate matter, Permits, Reporting and recordkeeping requirements, Sulfur oxides.

Dated: March 15, 2000.
Felicia Marcus,
Regional Administrator, Region IX.

Title 40, Chapter I of the Code of Federal Regulations, Part 55, is to be amended as follows:

PART 55—[AMENDED]

1. The authority citation for part 55 continues to read as follows:

Authority: Section 328 of the Clean Air Act (42 U.S.C. 7401 et seq.) as amended by Public Law 101-549.

2. Section 55.14 is amended by revising paragraphs (e)(3)(i)(A), (e)(3)(ii)(E), (e)(3)(ii)(F), (e)(3)(ii)(G), and (e)(3)(ii)(H) to read as follows:

§ 55.14 Requirements that apply to OCS sources located within 25 miles of States seaward boundaries, by State.

* * * * *

(e) * * *

(3) * * *

(i) * * *

(A) State of California Requirements Applicable to OCS Sources.

(ii) * * *

(E) San Luis Obispo County Air Pollution Control District Requirements Applicable to OCS Sources, February 2000.

(F) Santa Barbara County Air Pollution Control District Requirements Applicable to OCS Sources, February 2000.

(G) South Coast Air Quality Management District Requirements Applicable to OCS Sources (Part I , II and Part III), February 2000.

(H) Ventura County Air Pollution Control District Requirements Applicable to OCS Sources, February 2000.

* * * * *

3. Appendix A to CFR Part 55 is amended by revising paragraphs (a)(1) and (b)(5), (6), (7), and (8) under the heading “California” to read as follows:

Appendix A to 40 CFR Part 55—Listing of State and Local Requirements Incorporated by Reference Into Part 55, by State

* * * * *

California

(a) State Requirements

(1) The following requirements are contained in State of California Requirements Applicable to OCS Sources, February 2000.

Barclays California Code of Regulations

The following sections of Title 17 Subchapter 6:

17 § 92000 Definitions (Adopted 5/31/91)

17 § 92100 Scope and Policy (Adopted 5/31/91)

17 § 92200 Visible Emission Standards (Adopted 5/31/91)

17 § 92210 Nuisance Prohibition (Adopted 5/31/91)

17 § 92220 Compliance with Performance Standards (Adopted 5/31/91)

17 § 92400 Visible Evaluation Techniques (Adopted 5/31/91)

17 § 92500 General Provisions (Adopted 5/31/91)

17 § 92510 Pavement Marking (Adopted 5/31/91)

17 § 92520 Stucco and Concrete (Adopted 5/31/91)

17 § 92530 Certified Abrasive (Adopted 5/31/91)

17 § 92540 Stucco and Concrete (Adopted 5/31/91)

Health and Safety Code

The following section of Division 26, Part 4, Chapter 4, Article 1: Health and Safety Code § 42301.13 of seq. Stationary sources: demolition or removal (chaptered 7/25/96)

* * * * *

(b) Local Requirements.

* * * * *

(5) The following requirements are contained in San Luis Obispo County Air Pollution Control District Requirements Applicable to OCS Sources, February 2000:

Rule 103 Conflicts Between District, State and Federal Rules (Adopted 8/6/76)

Rule 105 Definitions (Adopted 1/24/96)

Rule 106 Standard Conditions (Adopted 8/6/76)

Rule 108 Severability (Adopted 11/13/84)

Rule 113 Continuous Emissions Monitoring, except F. (Adopted 7/5/77)

Rule 201 Equipment not Requiring a Permit, except A.1.b. (Revised 4/26/95)

Rule 202 Permits, except A.4. and A.8. (Adopted 11/5/91)

Rule 203 Applications, except B. (Adopted 11/5/91)

Rule 204 Requirements, except B.3. and C. (Adopted 8/10/93)

Rule 209 Provision for Sampling and Testing Facilities (Adopted 11/5/91)

Rule 210 Periodic Inspection, Testing and Renewal of Permits to Operate (Adopted 11/5/91)

Rule 213 Calculations, except E.4. and F. (Adopted 8/10/93)

Rule 302 Schedule of Fees (Adopted 6/18/97)

Rule 305 Fees for Major Non-Vehicular Sources (Adopted 9/15/92)

Rule 401 Visible Emissions (Adopted 8/6/76)

Rule 403 Particulate Matter Emissions (Adopted 8/6/76)

Rule 404 Sulfur Compounds Emission Standards, Limitations and Prohibitions (Revised 12/6/76)

Rule 405 Nitrogen Oxides Emission Standards, Limitations and Prohibitions (Adopted 11/16/93)

Rule 406 Carbon Monoxide Emission Standards, Limitations and Prohibitions (Adopted 11/14/84)

Rule 407 Organic Material Emission Standards, Limitations and Prohibitions (Adopted 5/22/96)

Rule 411 Surface Coating of Metal Parts and Products (Adopted 1/28/98)

Rule 416 Degreasing Operations (Adopted 6/18/79)

Rule 417 Control of Fugitive Emissions of Volatile Organic Compounds (Adopted 2/9/93)

Rule 419 Petroleum Pits, Ponds, Sumps, Well Cellars, and Wastewater Separators (Revised 7/12/94)

Rule 422 Refinery Process Turnarounds (Adopted 6/18/79)

Rule 425 Storage of Volatile Organic Compounds (Adopted 7/12/94)

Rule 427 Marine Tanker Loading (Adopted 4/26/95)

Rule 429 Oxides of Nitrogen and Carbon Monoxide Emissions from Electric Power Generation Boilers (Revised 11/12/97)

Rule 430 Control of Oxides of Nitrogen from Industrial, Institutional, Commercial Boilers, Steam Generators, and Process Heaters (Adopted 7/26/95)

Rule 431 Stationary Internal Combustion Engines (Adopted 11/13/96)

Rule 501 General Burning Provisions (Adopted 1/10/89)

Rule 503 Incinerator Burning, except B.1.a. (Adopted 2/7/89)

Rule 601 New Source Performance Standards (Adopted 5/28/97)

(6) The following requirements are containing in Santa Barbara County Air Pollution Control District Requirements Applicable to OCS Sources, February 2000:

Rule 102 Definitions (Adopted 5/20/99)

Rule 103 Severability (Adopted 10/23/78)

Rule 106 Notice to Comply for Minor Violations (Adopted 7/15/99)

Rule 201 Permits Required (Adopted 4/17/97)

Rule 202 Exemptions to Rule 201 (Adopted 4/17/97)

Rule 203 Transfer (Adopted 4/17/97)

Rule 204 Applications (Adopted 4/17/97)

Rule 205 Standards for Granting Applications (Adopted 4/17/97)

Rule 206 Conditional Approval of Authority to Construct or Permit to Operate (Adopted 10/15/91)

Rule 207 Denial of Application (Adopted 10/23/78)

Rule 210 Fees (Adopted 4/17/97)

Rule 212 Emission Statements (Adopted 10/20/92)

Rule 301 Circumvention (Adopted 10/23/78)

Rule 302 Visible Emissions (Adopted 10/23/78)

Rule 304 Particulate Matter-Northern Zone (Adopted 10/23/78)

Rule 305 Particulate Matter Concentration-Southern Zone (Adopted 10/23/78)

Rule 306 Dust and Fumes-Northern Zone (Adopted 10/23/78)

Rule 307 Particulate Matter Emission Weight Rate-Southern Zone (Adopted 10/23/78)

Rule 308 Incinerator Burning (Adopted 10/23/78)

Rule 309 Specific Contaminants (Adopted 10/23/78)

Rule 310 Odorous Organic Sulfides (Adopted 10/23/78)

Rule 311 Sulfur Content of Fuels (Adopted 10/23/78)

Rule 312 Open Fires (Adopted 10/2/90)

Rule 316 Storage and Transfer of Gasoline (Adopted 4/17/97)

Rule 317 Organic Solvents (Adopted 10/23/78)

Rule 318 Vacuum Producing Devices or Systems-Southern Zone (Adopted 10/23/78)

Rule 321 Solvent Cleaning Operations (Adopted 9/18/97)

Rule 322 Metal Surface Coating Thinner and Reducer (Adopted 10/23/78)

Rule 323 Architectural Coatings (Adopted 7/18/96)

Rule 324 Disposal and Evaporation of Solvents (Adopted 10/23/78)

Rule 325 Crude Oil Production and Separation (Adopted 1/25/94)

Rule 326 Storage of Reactive Organic Liquid Compounds (Adopted 12/14/93)

Rule 327 Organic Liquid Cargo Tank Vessel Loading (Adopted 12/16/85)

Rule 328 Continuous Emission Monitoring (Adopted 10/23/78)

Rule 330 Surface Coating of Miscellaneous Metal Parts and Products (Adopted 4/21/95)

Rule 331 Fugitive Emissions Inspection and Maintenance (Adopted 12/10/91)

Rule 332 Petroleum Refinery Vacuum Producing Systems, Wastewater Separators and Process Turnarounds (Adopted 6/11/79)

Rule 333 Control of Emissions from Reciprocating Internal Combustion Engines (Adopted 4/17/97)

Rule 342 Control of Oxides of Nitrogen (NOX) from Boilers, Steam Generators and Process Heaters) (Adopted 4/17/97)

Rule 343 Petroleum Storage Tank Degassing (Adopted 12/14/93)

Rule 344 Petroleum Sumps, Pits, and Well Cellars (Adopted 11/10/94)

Rule 352 Natural Gas-Fired Fan-Type Central Furnaces and Residential Water Heaters (Adopted 9/16/99)

Rule 353 Adhesives and Sealants (Adopted 8/19/99)

Rule 359 Flares and Thermal Oxidizers (6/28/94)

Rule 370 Potential to Emit—Limitations for Part 70 Sources (Adopted 6/15/95)

Rule 505 Breakdown Conditions Sections A., B.1,. and D. only (Adopted 10/23/78)

Rule 603 Emergency Episode Plans (Adopted 6/15/81)

Rule 702 General Conformity (Adopted 10/20/94)

Rule 801 New Source Review (Adopted 4/17/97)

Rule 802 Nonattainment Review (Adopted 4/17/97)

Rule 803 Prevention of Significant Deterioration (Adopted 4/17/97)

Rule 804 Emission Offsets (Adopted 4/17/97)

Rule 805 Air Quality Impact Analysis and Modeling (Adopted 4/17/97)

Rule 808 New Source Review for Major Sources of Hazardous Air Pollutants (Adopted 5/20/99)

Rule 1301 Part 70 Operating Permits—General Information (Adopted 4/17/97)

Rule 1302 Part 70 Operating Permits—Permit Application (Adopted 11/09/93)

Rule 1303 Part 70 Operating Permits—Permits (Adopted 11/09/93)

Rule 1304 Part 70 Operating Permits—Issuance, Renewal, Modification and Reopening (Adopted 11/09/93)

Rule 1305 Part 70 Operating Permits—Enforcement (Adopted 11/09/93)

(7) The following requirements are contained in South Coast Air Quality Management District Requirements Applicable to OCS Sources (Part I, II and III), February 2000:

Rule 102 Definition of Terms (Adopted 6/13/97)

Rule 103 Definition of Geographical Areas (Adopted 1/9/76)

Rule 104 Reporting of Source Test Data and Analyses (Adopted 1/9/76)

Rule 108 Alternative Emission Control Plans (Adopted 4/6/90)

Rule 109 Recordkeeping for Volatile Organic Compound Emissions (Adopted 3/6/92)

Rule 118 Emergencies (Adopted 12/7/95)

Rule 201 Permit to Construct (Adopted 1/5/90)

Rule 201.1 Permit Conditions in Federally Issued Permits to Construct (Adopted 1/5/90)

Rule 202 Temporary Permit to Operate (Adopted 5/7/76)

Rule 203 Permit to Operate (Adopted 1/5/90)

Rule 204 Permit Conditions (Adopted 3/6/92)

Rule 205 Expiration of Permits to Construct (Adopted 1/5/90)

Rule 206 Posting of Permit to Operate (Adopted 1/5/90)

Rule 207 Altering or Falsifying of Permit (Adopted 1/9/76)

Rule 208 Permit for Open Burning (Adopted 1/5/90)

Rule 209 Transfer and Voiding of Permits (Adopted 1/5/90)

Rule 210 Applications (Adopted 1/5/90)

Rule 212 Standards for Approving Permits (Adopted 12/7/95) except (c)(3) and (e)

Rule 214 Denial of Permits (Adopted 1/5/90)

Rule 217 Provisions for Sampling and Testing Facilities (Adopted 1/5/90)

Rule 218 Stack Monitoring (Adopted 8/7/81)

Rule 219 Equipment Not Requiring a Written Permit Pursuant to Regulation II (Adopted 12/13/96)

Rule 220 Exemption—Net Increase in Emissions (Adopted 8/7/81)

Rule 221 Plans (Adopted 1/4/85)

Rule 301 Permit Fees (Adopted 5/9/97) except (e)(6) and Table IV

Rule 304 Equipment, Materials, and Ambient Air Analyses (Adopted 5/9/97)

Rule 304.1 Analyses Fees (Adopted 5/9/97)

Rule 305 Fees for Acid Deposition (Adopted 10/4/91)

Rule 306 Plan Fees (Adopted 5/9/97)

Rule 309 Fees for Regulation XVI Plans (Adopted 5/9/97)

Rule 401 Visible Emissions (Adopted 4/7/89)

Rule 403 Fugitive Dust (Adopted 2/14/97)

Rule 404 Particulate Matter—Concentration (Adopted 2/7/86)

Rule 405 Solid Particulate Matter—Weight (Adopted 2/7/86)

Rule 407 Liquid and Gaseous Air Contaminants (Adopted 4/2/82)

Rule 408 Circumvention (Adopted 5/7/76)

Rule 409 Combustion Contaminants (Adopted 8/7/81)

Rule 429 Start-Up and Shutdown Provisions for Oxides of Nitrogen (Adopted 12/21/90)

Rule 430 Breakdown Provisions, (a) and (e) only (Adopted 7/12/96)

Rule 431.1 Sulfur Content of Gaseous Fuels (Adopted 11/17/95)

Rule 431.2 Sulfur Content of Liquid Fuels (Adopted 5/4/90)

Rule 431.3 Sulfur Content of Fossil Fuels (Adopted 5/7/76)

Rule 441 Research Operations (Adopted 5/7/76)

Rule 442 Usage of Solvents (Adopted 3/5/82)

Rule 444 Open Fires (Adopted 10/2/87)

Rule 463 Organic Liquid Storage (Adopted 3/11/94)

Rule 465 Vacuum Producing Devices or Systems (Adopted 11/1/91)

Rule 468 Sulfur Recovery Units (Adopted 10/8/76)

Rule 473 Disposal of Solid and Liquid Wastes (Adopted 5/7/76)

Rule 474 Fuel Burning Equipment-Oxides of Nitrogen (Adopted 12/4/81)

Rule 475 Electric Power Generating Equipment (Adopted 8/7/78)

Rule 476 Steam Generating Equipment (Adopted 10/8/76)

Rule 480 Natural Gas Fired Control Devices (Adopted 10/7/77); Addendum to Regulation IV (Effective 1977)

Rule 518 Variance Procedures for Title V Facilities (Adopted 8/11/95)

Rule 518.1 Permit Appeal Procedures for Title V Facilities (Adopted 8/11/95)

Rule 518.2 Federal Alternative Operating Conditions (Adopted 1/12/96)

Rule 701 Air Pollution Emergency Contingency Actions (Adopted 6/13/97)

Rule 702 Definitions (Adopted 7/11/80)

Rule 704 Episode Declaration (Adopted 7/9/82)

Rule 707 Radio—Communication System (Adopted 7/11/80)

Rule 708 Plans (Adopted 7/9/82)

Rule 708.1 Stationary Sources Required to File Plans (Adopted 4/4/80)

Rule 708.2 Content of Stationary Source Curtailment Plans (Adopted 4/4/80)

Rule 708.4 Procedural Requirements for Plans (Adopted 7/11/80)

Rule 709 First Stage Episode Actions (Adopted 7/11/80)

Rule 710 Second Stage Episode Actions (Adopted 7/11/80)

Rule 711 Third Stage Episode Actions (Adopted 7/11/80)

Rule 712 Sulfate Episode Actions (Adopted 7/11/80)

Rule 715 Burning of Fossil Fuel on Episode Days (Adopted 8/24/77)

Regulation IX—New Source Performance Standards (Adopted 1/9/98)

Rule 1106 Marine Coatings Operations (Adopted 1/13/95)

Rule 1107 Coating of Metal Parts and Products (Adopted 3/8/96)

Rule 1109 Emissions of Oxides of Nitrogen for Boilers and Process Heaters in Petroleum Refineries (Adopted 8/5/88)

Rule 1110 Emissions from Stationary Internal Combustion Engines (Demonstration) (Adopted 11/14/97)

Rule 1110.1 Emissions from Stationary Internal Combustion Engines (Adopted 10/4/85)

Rule 1110.2 Emissions from Gaseous- and Liquid-Fueled Internal Combustion Engines (Adopted 11/14/97)

Rule 1113 Architectural Coatings (Adopted 11/8/96)

Rule 1116.1 Lightering Vessel Operations-Sulfur Content of Bunker Fuel (Adopted 10/20/78)

Rule 1121 Control of Nitrogen Oxides from Residential-Type Natural Gas-Fired Water Heaters (Adopted 3/10/95)

Rule 1122 Solvent Degreasers (Adopted 7/11/97)

Rule 1123 Refinery Process Turnarounds (Adopted 12/7/90)

Rule 1129 Aerosol Coatings (rescinded 3/8/96)

Rule 1134 Emissions of Oxides of Nitrogen from Stationary Gas Turbines (Adopted 8/8/97)

Rule 1136 Wood Products Coatings (Adopted 6/14/96)

Rule 1140 Abrasive Blasting (Adopted 8/2/85)

Rule 1142 Marine Tank Vessel Operations (Adopted 7/19/91)

Rule 1146 Emissions of Oxides of Nitrogen from Industrial, Institutional, and Commercial Boilers, Steam Generators, and Process Heaters (Adopted 5/13/94)

Rule 1146.1 Emission of Oxides of Nitrogen from Small Industrial, Institutional, and Commercial Boilers, Steam Generators, and Process Heaters (Adopted 5/13/94)

Rule 1146.2 Emissions of Oxides of Nitrogen from Large Water Heaters and Small Boilers (Adopted 1/9/98)

Rule 1148 Thermally Enhanced Oil Recovery Wells (Adopted 11/5/82)

Rule 1149 Storage Tank Degassing (Adopted 7/14/95)

Rule 1168 Adhesive Applications (Adopted 2/13/98)

Rule 1171 Solvent Cleaning Operations (Adopted 9/13/96)

Rule 1173 Fugitive Emissions of Volatile Organic Compounds (Adopted 5/13/94)

Rule 1176 VOC Emissions from Wastewater Systems (Adopted 9/13/96)

Rule 1301 General (Adopted 12/7/95)

Rule 1302 Definitions (Adopted 12/7/95)

Rule 1303 Requirements (Adopted 5/10/96)

Rule 1304 Exemptions (Adopted 6/14/96)

Rule 1306 Emission Calculations (Adopted 6/14/96)

Rule 1313 Permits to Operate (Adopted 12/7/95)

Rule 1403 Asbestos Emissions from Demolition/Renovation Activities (Adopted 4/8/94)

Rule 1605 Credits for the Voluntary Repair of On-Road Vehicles Identified Through Remote Sensing Devices (Adopted 10/11/96)

Rule 1610 Old-Vehicle Scrapping (Adopted 5/9/97)

Rule 1612 Credits for Clean On-Road Vehicles (Adopted 9/8/95)

Rule 1620 Credits for Clean Off-Road Mobile Equipment (Adopted 9/8/95)

Rule 1701 General (Adopted 1/6/89)

Rule 1702 Definitions (Adopted 1/6/89)

Rule 1703 PSD Analysis (Adopted 10/7/88)

Rule 1704 Exemptions (Adopted 1/6/89)

Rule 1706 Emission Calculations (Adopted 1/6/89)

Rule 1713 Source Obligation (Adopted 10/7/88)

Regulation XVII Appendix (effective 1977)

Rule 1901 General Conformity (Adopted 9/9/94)

Rule 2000 General (Adopted 4/11/97)

Rule 2001 Applicability (Adopted 2/14/97)

Rule 2002 Allocations for Oxides of Nitrogen (NOX) and Oxides of Sulfur (Sox) Emissions (Adopted 2/14/97)

Rule 2004 Requirements (Adopted 7/12/96) except (l)

Rule 2005 New Source Review for RECLAIM (Adopted 2/14/97) except (i)

Rule 2006 Permits (Adopted 12/7/95)

Rule 2007 Trading Requirements (Adopted 12/7/95)

Rule 2008 Mobile Source Credits (Adopted 10/15/93)

Rule 2010 Administrative Remedies and Sanctions (Adopted 10/15/93)

Rule 2011 Requirements for Monitoring, Reporting, and Recordkeeping for Oxides of Sulfur (SOX) Emissions (Adopted 4/11/97)

Appendix A Volume IV—(Protocol for oxides of sulfur) (Adopted 3/10/95)

Rule 2012 Requirements for Monitoring, Reporting, and Recordkeeping for Oxides of Nitrogen (NOX) Emissions (Adopted 4/11/97)

Appendix A Volume V—(Protocol for oxides of nitrogen) (Adopted 3/10/95)

Rule 2015 Backstop Provisions (Adopted 2/14/97) except (B)(1)(G) and (b)(3)(B)

Rule 2100 Registration of Portable Equipment (Adopted 7/11/97)

XXX Title V Permits

Rule 3000 General (Adopted 11/14/97)

Rule 3001 Applicability (Adopted 11/14/97)

Rule 3002 Requirements (Adopted 11/14/97)

Rule 3003 Applications (Adopted 11/14/97)

Rule 3004 Permit Types and Content (Adopted 11/14/97)

Rule 3005 Permit Revisions (Adopted 11/14/97)

Rule 3006 Public Participation (Adopted 11/14/97)

Rule 3007 Effect of Permit (Adopted 10/8/93)

XXXI Acid Rain Permit Program (Adopted 2/10/95)

(8) The following requirements are contained in Ventura County Air Pollution Control District Requirements Applicable to OCS Sources, February 2000:

Rule 2 Definitions (Adopted 11/10/98)

Rule 5 Effective Date (Adopted 5/23/72)

Rule 6 Severability (Adopted 11/21/78)

Rule 7 Zone Boundaries (Adopted 6/14/77)

Rule 10 Permits Required (Adopted 6/13/95)

Rule 11 Definition for Regulation II (Adopted 6/13/95)

Rule 12 Application for Permits (Adopted 6/13/95)

Rule 13 Action on Applications for an Authority to Construct (Adopted 6/13/95)

Rule 14 Action on Applications for a Permit to Operate (Adopted 6/13/95)

Rule 15.1 Sampling and Testing Facilities (Adopted 10/12/93)

Rule 16 BACT Certification (Adopted 6/13/95)

Rule 19 Posting of Permits (Adopted 5/23/72)

Rule 20 Transfer of Permit (Adopted 5/23/72)

Rule 23 Exemptions from Permits (Adopted 7/9/96)

Rule 24 Source Recordkeeping, Reporting, and Emission Statements (Adopted 9/15/92)

Rule 26 New Source Review (Adopted 10/22/91)

Rule 26.1 New Source Review—Definitions (Adopted 1/13/98)

Rule 26.2 New Source Review—Requirements (Adopted 1/13/98)

Rule 26.3 New Source Review—Exemptions (Adopted 1/13/98)

Rule 26.6 New Source Review—Calculations (Adopted 1/13/98)

Rule 26.8 New Source Review—Permit To Operate (Adopted 10/22/91)

Rule 26.10 New Source Review—PSD (Adopted 1/13/98)

Rule 28 Revocation of Permits (Adopted 7/18/72)

Rule 29 Conditions on Permits (Adopted 10/22/91)

Rule 30 Permit Renewal (Adopted 5/30/89)

Rule 32 Breakdown Conditions: Emergency Variances, A., B.1., and D. only. (Adopted 2/20/79)

Rule 33 Part 70 Permits—General (Adopted 10/12/93)

Rule 33.1 Part 70 Permits—Definitions (Adopted 10/12/93)

Rule 33.2 Part 70 Permits—Application Contents (Adopted 10/12/93)

Rule 33.3 Part 70 Permits—Permit Content (Adopted 10/12/93)

Rule 33.4 Part 70 Permits—Operational Flexibility (Adopted 10/12/93)

Rule 33.5 Part 70 Permits—Time frames for Applications, Review and Issuance (Adopted 10/12/93)

Rule 33.6 Part 70 Permits—Permit Term and Permit Reissuance (Adopted 10/12/93)

Rule 33.7 Part 70 Permits—Notification (Adopted 10/12/93)

Rule 33.8 Part 70 Permits—Reopening of Permits (Adopted 10/12/93)

Rule 33.9 Part 70 Permits—Compliance Provisions (Adopted 10/12/93)

Rule 33.10 Part 70 Permits—General Part 70 Permits (Adopted 10/12/93)

Rule 34 Acid Deposition Control (Adopted 3/14/95)

Rule 35 Elective Emission Limits (Adopted 11/12/96)

Rule 36 New Source Review—Hazardous Air Pollutants (Adopted 10/6/98)

Rule 42 Permit Fees (Adopted 6/22/99)

Rule 44 Exemption Evaluation Fee (Adopted 9/10/96)

Rule 45 Plan Fees (Adopted 6/19/90)

Rule 45.2 Asbestos Removal Fees (Adopted 8/4/92)

Rule 47 Source Test, Emission Monitor, and Call-Back Fees (Adopted 6/22/99)

Rule 50 Opacity (Adopted 2/20/79)

Rule 52 Particulate Matter-Concentration (Adopted 5/23/72)

Rule 53 Particulate Matter-Process Weight (Adopted 7/18/72)

Rule 54 Sulfur Compounds (Adopted 6/14/94)

Rule 56 Open Fires (Adopted 3/29/94)

Rule 57 Combustion Contaminants—Specific (Adopted 6/14/77)

Rule 60 New Non-Mobile Equipment-Sulfur Dioxide, Nitrogen Oxides, and Particulate Matter (Adopted 7/8/72)

Rule 62.7 Asbestos—Demolition and Renovation (Adopted 6/16/92)

Rule 63 Separation and Combination of Emissions (Adopted 11/21/78)

Rule 64 Sulfur Content of Fuels (Adopted 4/13/99)

Rule 67 Vacuum Producing Devices (Adopted 7/5/83)

Rule 68 Carbon Monoxide (Adopted 6/14/77)

Rule 71 Crude Oil and Reactive Organic Compound Liquids (Adopted 12/13/94)

Rule 71.1 Crude Oil Production and Separation (Adopted 6/16/92)

Rule 71.2 Storage of Reactive Organic Compound Liquids (Adopted 9/26/89)

Rule 71.3 Transfer of Reactive Organic Compound Liquids (Adopted 6/16/92)

Rule 71.4 Petroleum Sumps, Pits, Ponds, and Well Cellars (Adopted 6/8/93)

Rule 71.5 Glycol Dehydrators (Adopted 12/13/94)

Rule 72 New Source Performance Standards (NSPS) (Adopted 9/10/96)

Rule 74 Specific Source Standards (Adopted 7/6/76)

Rule 74.1 Abrasive Blasting (Adopted 11/12/91)

Rule 74.2 Architectural Coatings (Adopted 08/11/92)

Rule 74.6 Surface Cleaning and Degreasing (Adopted 11/10/98)

Rule 74.6.1 Cold Cleaning Operations (Adopted 7/9/96)

Rule 74.6.2 Batch Loaded Vapor Degreasing Operations (Adopted 7/9/96)

Rule 74.7 Fugitive Emissions of Reactive Organic Compounds at Petroleum Refineries and Chemical Plants (Adopted 10/10/95)

Rule 74.8 Refinery Vacuum Producing Systems, Waste-water Separators and Process Turnarounds (Adopted 7/5/83)

Rule 74.9 Stationary Internal Combustion Engines (Adopted 12/21/93)

Rule 74.10 Components at Crude Oil Production Facilities and Natural Gas Production and Processing Facilities (Adopted 3/10/98)

Rule 74.11 Natural Gas-Fired Residential Water Heaters-Control of NOX (Adopted 4/9/85)

Rule 74.11.1 Large Water Heaters and Small Boilers (Adopted 9/14/99)

Rule 74.12 Surface Coating of Metal Parts and Products (Adopted 9/10/96)

Rule 74.15 Boilers, Steam Generators and Process Heaters (5MM BTUs and greater) (Adopted 11/8/94)

Rule 74.15.1 Boilers, Steam Generators and Process Heaters (1-5MM BTUs) (Adopted 6/13/95)

Rule 74.16 Oil Field Drilling Operations (Adopted 1/8/91)

Rule 74.20 Adhesives and Sealants (Adopted 1/14/97)

Rule 74.23 Stationary Gas Turbines (Adopted 10/10/95)

Rule 74.24 Marine Coating Operations (Adopted 9/10/96)

Rule 74.24.1 Pleasure Craft Coating and Commercial Boatyard Operations (Adopted 11/10/98)

Rule 74.26 Crude Oil Storage Tank Degassing Operations (Adopted 11/8/94)

Rule 74.27 Gasoline and ROC Liquid Storage Tank Degassing Operations (Adopted 11/8/94)

Rule 74.28 Asphalt Roofing Operations (Adopted 5/10/94)

Rule 74.30 Wood Products Coatings (Adopted 9/10/96)

Rule 75 Circumvention (Adopted 11/27/78)

Rule 76 Federally Enforceable Limits on Potential to Emit (Adopted 10/10/95)

Rule 100 Analytical Methods (Adopted 7/18/72)

Rule 101 Sampling and Testing Facilities (Adopted 5/23/72)

Rule 102 Source Tests (Adopted 11/21/78)

Rule 103 Continuous Monitoring Systems (Adopted 2/9/99)

Rule 154 Stage 1 Episode Actions (Adopted 9/17/91)

Rule 155 Stage 2 Episode Actions (Adopted 9/17/91)

Rule 156 Stage 3 Episode Actions (Adopted 9/17/91)

Rule 158 Source Abatement Plans (Adopted 9/17/91)

Rule 159 Traffic Abatement Procedures (Adopted 9/17/91)

Rule 220 General Conformity (Adopted 5/9/95)

* * * * *

[FR Doc. 00-7327 Filed 3-23-00; 8:45 am]

BILLING CODE 6560-50-P